FEDERAL COMMUNICATIONS COMMISSION

[IB Docket No. 04-286; DA 13-2406]

Fifth Meeting of the Advisory Committee for the 2015 World Radiocommunication Conference

AGENCY: Federal Communications Commission.

ACTION: Notice.

SUMMARY: In accordance with the Federal Advisory Committee Act, this notice advises interested persons that the fifth meeting of the WRC-15 Advisory Committee will be held on January 27, 2014, at the Federal Communications Commission. The Advisory Committee will consider recommendations from its Informal Working Groups.

DATES: January 27, 2014; 11:00 a.m.

ADDRESSES: Federal Communications Commission, 445 12th Street SW., Room TW-C305, Washington, DC 20554.

FOR FURTHER INFORMATION CONTACT: Alexander Roytblat, Designated Federal Official, WRC-15 Advisory Committee, FCC International Bureau, Strategic Analysis and Negotiations Division, at (202) 418-7501.

SUPPLEMENTARY INFORMATION: The Federal Communications Commission (FCC) established the WRC-15 Advisory Committee to provide advice, technical support and recommendations relating to the preparation for the 2015 World Radiocommunication Conference (WRC-15).

In accordance with the Federal Advisory Committee Act, Public Law 92-463, as amended, this notice advises interested persons of the fifth meeting of the WRC-15 Advisory Committee. Additional information regarding the WRC-15 Advisory Committee is available on the Advisory Committee's Web site, http://www.fcc.gov/wrc-15. The meeting is open to the public. The meeting will be broadcast live with open captioning over the Internet from the FCC Live Web page at www.fcc.gov/live. Comments may be presented at the WRC-15 Advisory Committee meeting or in advance of the meeting by email to: WRC-15@fcc.gov.

Open captioning will be provided for this event. Other reasonable accommodations for people with disabilities are available upon request. Requests for such accommodations should be submitted via email to fcc504@fcc.gov or by calling the Consumer & Governmental Affairs Bureau at (202) 418-0530 (voice), (202) 418-0432 (TTY). Such requests should include a detailed description of the accommodation needed. In addition, please include a way for the FCC to contact the requester if more information is needed to fill the request. Please allow at least five days' advance notice; last minute requests will be accepted, but may not be possible to accommodate.

The proposed agenda for the fifth meeting is as follows:

Agenda

Fifth Meeting of the WRC-15 Advisory Committee, Federal Communications Commission, 445 12th Street SW., Room TW-C305, Washington, DC 20554, January 27, 2014; 11:00 a.m.

1. Opening Remarks.

2. Approval of Agenda.

3. Approval of the Minutes of the Fourth Meeting.

4. IWG Reports and Documents Relating to Preliminary Views and Draft Proposals.

5. Future Meetings.

6. Other Business.

Federal Communications Commission.
Thomas P. Sullivan,
Acting Chief, International Bureau.

[FR Doc. 2013-31198 Filed 12-30-13; 8:45 am]

BILLING CODE 6712-01-P